ENVIRONMENTAL PROTECTION AGENCY

[OPP-2002-0228; FRL-7196-9]

FIFRA Scientific Advisory Panel; Notice of Public Meeting

AGENCY: Environmental Protection Agency (EPA).

ACTION: Notice.

SUMMARY: There will be a 1-day meeting of the Federal Insecticide, Fungicide, and Rodenticide Act (FIFRA) and Food Quality Protection Act (FQPA) Scientific Advisory Panel (FIFRA SAP)) to consider and review a proposed methodology for projecting domestic percent-crop-treated with pesticides for dietary risk assessment.

DATES: The meeting will be held on October 1, 2002, from 8:30 a.m. to approximately 5 p.m., eastern standard time.

For dates on requests to present oral comments, submission of written comments, or requests for special seating arrangements, see Unit I.C. of the SUPPLEMENTARY INFORMATION.

ADDRESSES: The meeting will be held at Sheraton Crystal City Hotel, 1800 Jefferson Davis Hwy., Arlington, VA. The telephone number for the Sheraton Crystal City Hotel is: (703) 486-1111.

Requests to present oral comments, submission of written comments, or requests for special seating arrangements may be submitted by mail, electronically, or in person. Please follow the detailed instructions for each method as provided in Unit I. of the SUPPLEMENTARY INFORMATION. To ensure proper receipt by EPA, your request must identify docket ID number OPP-2002-0228 in the subject line on the first page of your response.

FOR FURTHER INFORMATION CONTACT: Steven Knott, Designated Federal Official (DFO), Office of Science Coordination and Policy (7201M), Environmental Protection Agency, 1200 Pennsylvania Ave., NW., Washington, DC 20460; telephone number: (202) 564-8450; fax number: (202) 564-8382; e-mail addresses: knott.steven@epa.gov.

SUPPLEMENTARY INFORMATION:

I. General Information

A. Does this Action Apply to Me?

This action is directed to the public in general. This action may, however, be of interest to persons who are or may be required to conduct testing of chemical substances under the Federal Food, Drug, and Cosmetic Act (FFDCA), FIFRA, and FQPA. Since other entities may also be interested, the Agency has not attempted to describe all the specific entities that may be affected by this action. If you have any questions regarding the applicability of this action to a particular entity, consult the DFO listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register— Environmental Documents.” You can also go directly to the Federal Register listings at http://www.epa.gov/fedrgstr/.

A meeting agenda, EPA's background paper, questions to FIFRA SAP, and FIFRA SAP composition (i.e., members and consultants) will be available as soon as possible, but no later than early September. In addition, the Agency may provide additional background documents as the materials become available. You may obtain electronic copies of these documents, and certain other related documents that might be available electronically, from the FIFRA SAP Internet Home Page at http://www.epa.gov/scipoly/sap.

2. In person. The Agency has established an official record for this meeting under docket ID number OPP-2002-0228. The official record consists of the documents specifically referenced in this notice, any public comments received during an applicable comment period, and other material information, including any information claimed as Confidential Business Information (CBI). This official record includes the documents that are physically located in the docket, as well as the documents that are referenced in those documents. In addition, the Agency may provide additional background documents as the material becomes available. The public version of the official record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How May I Participate in this Meeting?

You may submit requests to present oral comments, written comments, or requests for special seating arrangements through the mail, in person, or electronically. Do not submit any information in your request that is considered CBI. To ensure proper receipt by EPA, it is imperative that you identify docket ID number OPP-2002-0228 in the subject line on the first page of your request.

1. Oral comments. Although requests to present oral comments are accepted until the date of the meeting (unless otherwise stated), to the extent that time permits, interested persons may be permitted by the Chair of FIFRA SAP to present oral comments at the meeting. Each individual or group wishing to make brief oral comments to FIFRA SAP is strongly advised to submit their request to the DFO listed under FOR FURTHER INFORMATION CONTACT no later than noon, eastern standard time, September 24, 2002, in order to be included on the meeting agenda. The request should identify the name of the individual making the presentation, the organization (if any) the individual will represent, and any requirements for audiovisual equipment (e.g., overhead projector, 35 mm projector, chalkboard). Oral comments before FIFRA SAP are limited to approximately 5 minutes unless prior arrangements have been made. In addition, the speaker should bring to the meeting 30 copies of the oral comments and presentation slides for distribution to FIFRA SAP at the meeting.

2. Written comments. Although submission of written comments are accepted until the date of the meeting (unless otherwise stated), the Agency encourages that written comments be submitted no later than noon, eastern standard time, September 24, 2002, to provide FIFRA SAP the time necessary to consider and review the written comments. There is no limit on the extent of written comments for consideration by FIFRA SAP. Persons wishing to submit written comments at the meeting should contact the DFO listed under FOR FURTHER INFORMATION CONTACT and submit 30 copies.

3. Seating at the meeting. Seating at the meeting will be on a first-come basis. Individuals requiring special accommodations at this meeting, including wheelchair access, should contact the DFO at least 5 business days prior to the meeting using the information under FOR FURTHER INFORMATION CONTACT so that appropriate arrangements can be made.

D. Submission of Requests and Written Comments

1. By mail. Submit your request or written comments to: Public Information and Records Integrity Branch (PIRIB), Information Resources and Services Division (7502C), Office of Pesticide Programs (OPP), Environmental Protection Agency, 1200 Pennsylvania Ave., NW., Washington, DC 20460.

b. In person or by courier. Deliver your request or written comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

c. Electronically. You may submit your request or written comments electronically by e-mail to: opp-docket@epa.gov. Do not submit any information electronically that you consider to be CBI. Use WordPerfect 6.1/8.0/9.0 or ASCII file format and avoid the use of special characters and any form of encryption. Be sure to identify by docket ID number OPP-2002-0228. You may also file a request online at many Federal Depository Libraries.

II. Background

A. Purpose of the FIFRA SAP

The FIFRA SAP is an independent scientific peer review group that provides technical advice for EPA's consideration. Amendments to the FIFRA, enacted November 28, 1975, (7 U.S.C. 136w(d)), include a requirement under section 25(d) that notices of intent to cancel or reclassify pesticide regulations pursuant to section 6(b)(2), as well as proposed and final forms of rulemaking pursuant to section 25(a), be submitted to a SAP prior to being made public or issued to a registrant. In accordance with FIFRA section 25(d), the SAP is to have an opportunity to comment on the health and environmental impact of such actions. The Panel shall also make comments, evaluations, and recommendations for operating guidelines to improve the effectiveness and quality of analyses made by Agency scientists. Members are scientists who have sufficient professional qualifications, including training and experience, to be capable of providing expert comments as to the impact on health and the environment of regulatory actions under sections 6(b) and 25(a) of FIFRA. The Deputy Administrator appoints seven individuals to serve on the Panel for staggered terms of 4 years, based on recommendations from the National Institute of Health (NIH) and the National Science Foundation (NSF).

B. Purpose of the Meeting

The FIFRA SAP will meet to consider and review a proposed methodology for projecting domestic percent-crop-treated with pesticides for dietary risk assessment. The percentage of a given crop which is treated (or, more precisely, not treated) is a critical parameter in OPP's recently instituted, probabilistic human health exposure assessments because this factor determines the proportion of a crop which is assumed to have (or not have) residues. These residues, or expected residues, determine the dietary exposure to pesticides, which is a key component of dietary risk assessment.

EPA has historical data on domestic percent-crop-treated for a large number of crop/chemical combinations. This data can provide a basis for projecting future usage of pesticides (e.g., percent-crop-treated) for regulatory decisions based on dietary risk. Given EPA's mandate to assess pesticide food tolerances on a periodic basis, it is important for EPA to be able to project expected percent-crop-treated using these historical data. There are a number of statistical and/or mathematical methods for projecting future values from a historical record. EPA currently has methods for conducting these projections, but believes that EPA's refinements in these methods are warranted. Therefore, EPA has explored and developed methods that EPA believes, could serve the purpose for refining projected domestic percent-crop-treated, and is seeking SAP input on these method developments.

Previously, EPA has analyzed percent-crop-treated data using a distributed lag, whereby 1-year projections of percent-crop-treated were based on weighted historical data, with older data receiving lower weight and more recent data receiving higher weight. The confidence intervals associated with these projections are based on the variability of these historical data. While these methods have been shown to generate reasonable estimates, in cases where usage is trending upwards (or downwards), the uncertainty of the estimates can increase substantially. Therefore, EPA is seeking to develop a more robust method for projecting/estimating percent-crop-treated.

EPA is proposing to use exponential smoothing as the analytical tool for projecting percent-crop-treated to better reflect upward or downward trends in the data. The size of existing data sets (usually 10 or fewer observations) precludes some regression techniques, and exponential smoothing has been shown to be a robust method in settings where small data sets are common. EPA is also proposing a method for estimating prediction intervals that is consistent with exponential smoothing projections. As part of the development of these techniques, EPA has been working with and testing sets of historical data and plans to present comparisons of results in addition to the theoretical discussion.

C. FIFRA SAP Meeting Minutes

The FIFRA SAP will prepare meeting minutes summarizing its recommendations to the Agency in approximately 60 days. The report will be posted on the FIFRA SAP web site or may be obtained by contacting the Public Information and Records Integrity Branch at the address or telephone number listed in Unit I. of the SUPPLEMENTARY INFORMATION.

D. Request for Nominations to Serve on Food Quality Protection Act Science Review Board (SRB)

The Agency solicits nominations of scientists to serve on the SRB for this meeting. Any interested person or organization may nominate qualified individuals to serve on the SRB. No interested person shall be ineligible to serve on the SRB by reason of their membership on any other advisory committee to a Federal department or agency or their employment by a Federal department or agency (except EPA). Individuals should have expertise in one or more of the following areas: agricultural economics, pesticide use, pesticide exposure, and forecasting. In addition, nominees should be scientists who have sufficient professional qualifications, including training and experience, to be capable of providing expert comments as to the impact on health and the environment of regulatory actions under sections 6(b) and 25 (a) of FIFRA. Nominees should be identified by name, occupation, position, address, and telephone number. To be considered, all nominees should include a current resume providing the nominee's background, experience and qualifications.

The criteria for selecting scientists to serve on the SRB are that these persons be recognized experts in their fields; that they be as impartial and objective as possible; that they represent an array of backgrounds and perspectives (within their disciplines); and that they be available to participate fully in the review, which will be conducted over a relatively short time frame. Nominees will be asked to attend one public meeting and to participate in the discussion of key issues and assumptions at this meeting. Finally, they will be asked to review and to help finalize the products and outputs of the FIFRA SAP.

If a SRB nominee is considered to assist in a review by the SAP for a particular session, the SRB nominee is subject to the provisions of 5 CFR part 2634, Executive Branch Financial Disclosure, as supplemented by the EPA in 5 CFR part 6401. As such, the SRB nominee is required to submit a Confidential Financial Disclosure Report, which shall fully disclose, among other financial interests, the nominee's employment, stocks and bonds, and where applicable, sources of research support. EPA will evaluate the nominee's financial disclosure form prior to the nominee being appointed to a panel reviewing agency actions. This evaluation will identify conflicts that may arise between the member's financial interests and the agency actions under review. If the SRB nominee's financial disclosure form is approved by the EPA, the nominee will be assigned to a SAP session and be hired as a special government employee. Nominations should be provided to the DFO listed under FOR FURTHER INFORMATION CONTACT by September 6, 2002. The Agency will not formally acknowledge or respond to nominations.

List of Subjects

Environmental protection, Pesticides and pests.

Dated: August 20, 2002.
Sherella Sterling,
Acting Director, Office of Science Coordination and Policy.

[FR Doc. 02-21569 Filed 8-20-02; 4:01 pm]

BILLING CODE 6560-50-S